SOCIAL SECURITY ADMINISTRATION

[Docket No. SSA-2012-0046]

Social Security Acquiescence Ruling (AR) 12-1(8); Correction; Petersen v. Astrue, 633 F.3d 633 (8th Cir. 2011): Whether a National Guard Technician Who Worked in Noncovered Employment is Exempt From the Windfall Elimination Provision (WEP)—Title II of the Social Security Act

AGENCY: Social Security Administration.

ACTION: Notice of Social Security Acquiescence Ruling; Correction.

SUMMARY: The Social Security Administration published a document in the Federal Register of August 27, 2012, in FR Doc. 2012-21065, in the first column, correct the “title” to read:

Social Security Acquiescence Ruling (AR) 12-1(8); Petersen v. Astrue, 633 F.3d 633 (8th Cir. 2011); Whether a National Guard Technician Who Worked in Noncovered Employment is Exempt From the Windfall Elimination Provision (WEP)—Title II of the Social Security Act.

Also, in the second column, correct the heading to read:

Acquiescence Ruling 12-1(8)

Paul Kryglik,
Director, Office of Regulations, Social Security Administration.

[FR Doc. 2012-21799 Filed 9-4-12; 8:45 am]

BILLING CODE 4191-02-P